INTERNATIONAL TRADE COMMISSION

[USITC SE-05-024]

Sunshine Act Meeting; Rescheduling of Commission Vote

Agency Holding the Meeting: United States International Trade Commission.

Original Date and Time: June 14, 2005 at 11 a.m.

New Date and Time:

June 21, 2005 at 2 p.m.

Place:

Room 101, 500 E Street SW., Washington, DC 20436, Telephone: (202) 205-2000.

Status:

Open to the public.

Matters To Be Considered:

1. Agenda for future meetings: none.

2. Minutes.

3. Ratification List.

4. Inv. Nos. 701-TA-381 and 382 and 731-TA-797-804 (Review)(Certain Stainless Steel Sheet and Strip from France, Germany, Italy, Japan, Korea, Mexico, Taiwan, and the United Kingdom)—briefing and vote. (The Commission is currently scheduled to transmit its determination and Commissioners' opinions to the Secretary of Commerce on or before July 11, 2005.)

5. Outstanding action jackets: none.

In accordance with 19 CFR 201.37, the Commission hereby gives notification of a change in the date of Commission vote in the above subject matter. Subject matter listed above, not disposed of at the scheduled meeting, may be carried over to the agenda of the following meeting. Earlier notice of this action was not possible.

Issued: June 9, 2005.
By order of the Commission:
Marilyn R. Abbott,
Secretary to the Commission.

[FR Doc. 05-11750 Filed 6-9-05; 3:10 pm]

BILLING CODE 7020-02-P